NUCLEAR REGULATORY COMMISSION

10 CFR Part 53

[NRC-2019-0062]

RIN 3150-AK31

Risk-Informed, Technology-Inclusive Regulatory Framework for Advanced Reactors

AGENCY: Nuclear Regulatory Commission.

ACTION: Availability of preliminary proposed rule language; reopening of comment period.

SUMMARY: On November 6, 2020, the U.S. Nuclear Regulatory Commission (NRC) solicited comments on preliminary proposed rule language for a risk-informed, technology-inclusive framework for reactor licensing. The public comment period closed on November 5, 2021. The NRC has decided to reopen the public comment period until January 31, 2022, to allow more time for members of the public to develop and submit their comments.

DATES: The comment period for the Federal Register document published on November 6, 2020 (85 FR 71002), is reopened and now closes on January 31, 2022. Comments received after this date will be considered in the development of the proposed rule if it is practical to do so, but the Commission is able to ensure consideration only for comments received on or before this date.

ADDRESSES: You may submit comments on preliminary rule language by any of the following methods; however, the NRC encourages electronic comment submission through the Federal rulemaking website:

• Federal Rulemaking Website: Go to https://www.regulations.gov and search for Docket ID NRC-2019-0062. Address questions about NRC dockets to Dawn Forder; telephone: 301-415-3407; email: Dawn.Forder@nrc.gov. For technical questions contact the individuals listed in the FOR FURTHER INFORMATION CONTACT section of this document.

• Email comments to: Rulemaking.Comments@nrc.gov. If you do not receive an automatic email reply confirming receipt, then contact us at 301-415-1677.

For additional direction on obtaining information and submitting comments, see “Obtaining Information and Submitting Comments” in the SUPPLEMENTARY INFORMATION section of this document.

FOR FURTHER INFORMATION CONTACT: Robert Beall, Office of Nuclear Material Safety and Safeguards, telephone: 301-415-3874; email: Robert.Beall@nrc.gov; or William Reckley, Office of Nuclear Reactor Regulation, telephone: 301-415-7490; email: William.Reckley@nrc.gov. Both are staff of the U.S. Nuclear Regulatory Commission, Washington, DC 20555-0001.

SUPPLEMENTARY INFORMATION:

I. Obtaining Information and Submitting Comments

A. Obtaining Information

Please refer to Docket ID NRC-2019-0062 when contacting the NRC about the availability of information for this action. You may obtain publicly-available information related to this action by any of the following methods:

• Federal Rulemaking Website: Go to https://www.regulations.gov and search for Docket ID NRC-2019-0062.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to pdr.resource@nrc.gov. The ADAMS accession number for the preliminary proposed rule text is ML20289A534.

• Attention: The PDR, where you may examine and order copies of public documents, is currently closed. You may submit your request to the PDR via email at pdr.resource@nrc.gov or call 1-800-397-4209 between 8:00 a.m. and 4:00 p.m. (EST), Monday through Friday, except Federal holidays.

B. Submitting Comments

Please include Docket ID NRC-2019-0062 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

On November 6, 2020 (85 FR 71002), the NRC solicited comments on preliminary proposed rule language for a risk-informed, technology-inclusive framework for reactor licensing. The public comment period closed on November 5, 2021. The NRC has decided to reopen the public comment period on this document until January 31, 2022, to allow more time for members of the public to submit their comments.

Dated: November 2, 2021.
For the Nuclear Regulatory Commission.
John R. Tappert,
Director, Division of Rulemaking, Environmental, and Financial Support, Office of Nuclear Material Safety and Safeguards.

[FR Doc. 2021-24329 Filed 11-5-21; 8:45 am]

BILLING CODE 7590-01-P